DEPARTMENT OF TRANSPORTATION

Federal Aviation Administration

14 CFR Part 39

[Docket No. 2000-NE-57-AD; Amendment 39-12938; AD 2002-22-12]

RIN 2120-AA64

Airworthiness Directives; Titeflex Corporation

AGENCY: Federal Aviation Administration, DOT.

ACTION: Final rule.

SUMMARY: This amendment adopts a new airworthiness directive (AD), that is applicable to certain Titeflex Corporation high-pressure and medium-pressure hoses. This amendment requires inspecting certain Titeflex hoses for a date of manufacture, and if necessary, replacing the hose with a serviceable part. This amendment is prompted by reports of hoses that failed to meet the fire test requirements during laboratory testing. The actions specified by this AD are intended to prevent failure of a hose when exposed to fire.

DATES: Effective December 13, 2002. The incorporation by reference of certain publications listed in the regulations is approved by the Director of the Federal Register as of December 13, 2002.

ADDRESSES: The service information referenced in this AD may be obtained from Titeflex Corporation, 603 Hendee Street, P.O. Box 90054, Springfield, MA 01139; telephone (413) 271-8244. This information may be examined, by appointment, at the Federal Aviation Administration (FAA), New England Region, Office of the Regional Counsel, 12 New England Executive Park, Burlington, MA; or at the Office of the Federal Register, 800 North Capitol Street, NW, suite 700, Washington, DC.

FOR FURTHER INFORMATION CONTACT: Terry Fahr, Aerospace Engineer, Boston Aircraft Certification Office, FAA, Engine and Propeller Directorate, 12 New England Executive Park, Burlington, MA 01803-5299; telephone (781) 238-7155; fax (781) 238-7199.

SUPPLEMENTARY INFORMATION: A proposal to amend part 39 of the Federal Aviation Regulations (14 CFR part 39) to include an AD that is applicable to certain Titeflex Corporation high-pressure and medium-pressure hoses was published in the Federal Register on June 3, 2002 (67 FR 38212). That action proposed to require inspecting certain Titeflex hoses for a date of manufacture, and if necessary, replacing the hose with a serviceable part, in accordance with Titeflex Corporation service bulletin (SB) 73-2, dated November 27, 2000.

Comments

Interested persons have been afforded an opportunity to participate in the making of this amendment. Due consideration has been given to the comments received.

Canadair Airplanes

Two commenters state that the only Canadair airplane having suspect hoses installed is the CL-600 1A11. The commenters request that the final rule applicability be corrected to list only the Canadair CL-600 1A11 airplane.

The FAA agrees and has revised the applicability accordingly.

CFM56-5C Engine

One commenter states that the only CFM56 engine having suspect hoses installed is the CFM56-5C. The commenter requests that the final rule applicability be corrected to list only the CFM56-5C engine.

The FAA agrees and has revised the applicability accordingly.

Boeing Airplanes

One commenter states that in accordance with the Titeflex Corporation service bulletin (SB) 73-2, the applicable Boeing airplane models stated in the NPRM should have been “all Boeing models except 737-600, 737-700, 737-800, 737-900, and 777.”

The FAA agrees that the NPRM is in error and in addition has verified with Boeing Co. that the applicable Boeing models are DC-8, 707, 727, 737-200, 737-200C, 747, 757, and 767 airplanes. Therefore, the final rule has been revised to list these models.

One commenter approves of the AD as proposed.

After careful review of the available data, including the comments noted above, the FAA has determined that air safety and the public interest require the adoption of the rule with the changes described previously. The FAA has determined that these changes will neither increase the economic burden on any operator nor increase the scope of the AD.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-22-12 Titeflex Corporation: Amendment 39-12938. Docket No. 2000-NE-57-AD.

Applicability: This airworthiness directive (AD) is applicable to certain part number (P/N) Titeflex Corporation high-pressure and medium-pressure hoses that were fabricated at the Titeflex Springfield, MA, facility from January 1996 through June 2000. These hoses are installed on Airbus A300, A310, A340 airplanes, Boeing airplane models 707, 727, 737-200, 737-200C, 747, 757, and 767, Bombardier CL-600 1A11, BAE Avro 146 and BAE 146, McDonnell Douglas Corporation DC8 series, and Cessna 650 airplanes, and General Electric CF6-80C and CFM-56 series, and Honeywell International Inc., ALF502 and LF507 series turbofan engines.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Compliance with this AD is required within 48 months after the effective date of this AD, unless already done.

To prevent failure of a hose when exposed to fire, do the following:

(a) Perform a general visual inspection of all high-pressure and medium-pressure hoses, with a P/N specified in paragraph 1.A. of Titeflex Corporation service bulletin (SB) 73-2.

(b) If the hose has a brown, integral firesleeve, no further action is required. If the hose has an orange, slip-on firesleeve, then inspect the metal tag for the assembly location.

(1) If the assembly location on the metal tag is TITEFLEX/API, TITEFLEX/API LGB, TITEFLEX E, TITEFLEX EUROPE, or SHAC 1S353, no further action is required.

(2) If the assembly location on the metal tag is TITEFLEX, inspect for a date and disposition as specified in the following Table:

If the hose is | And the date is | Then
(i) High-pressure | (A) Before January 1996 or after June 2000 | No further action is required.
| (B) January 1996 through June 2000 | Replace hose with a serviceable part.
(ii) Medium-pressure | (A) Before February 2000 or after May 2000 | No further action is required.
| (B) February 2000 through May 2000 | Replace hose with a serviceable part.

Definition of a Serviceable Hose

(c) For the purposes of this AD, a serviceable hose is defined as a hose that has an assembly location listed in paragraph (b)(1) of this AD, that has an integral brown firesleeve, as a high-pressure hose that was fabricated before January 1996 or after June 2000, and as a medium-pressure hose that was fabricated before February 2000 or after May 2000.

Alternative Methods of Compliance

(d) An alternative method of compliance or adjustment of the compliance time that provides an acceptable level of safety may be used if approved by the Manager, Boston Aircraft Certification Office (ACO). Operators must submit their request through an appropriate FAA Principal Maintenance Inspector, who may add comments and then send it to the Manager, Boston ACO.

Note 2: Information concerning the existence of approved alternative methods of compliance with this airworthiness directive, if any, may be obtained from the Boston ACO.

Special Flight Permits

(e) Special flight permits may be issued in accordance with §§ 21.197 and 21.199 of the Federal Aviation Regulations (14 CFR 21.197 and 21.199) to operate the airplane to a location where the requirements of this AD can be done.

Documents That Have Been Incorporated By Reference

(f) The inspections and replacements must be done in accordance with Titeflex Corporation service bulletin (SB) 73-2, dated November 27, 2000. This incorporation by reference was approved by the Director of the Federal Register in accordance with 5 U.S.C. 552(a) and 1 CFR part 51. Copies may be obtained from Titeflex Corporation, 603 Hendee Street, P.O. Box 90054, Springfield, MA 01139, telephone (413) 271-8244. Copies may be inspected at the FAA, New England Region, Office of the Regional Counsel, 12 New England Executive Park, Burlington, MA; or at the Office of the Federal Register, 800 North Capitol Street, NW., suite 700, Washington, DC.

Effective Date

(g) This amendment becomes effective on December 13, 2002.

Issued in Burlington, Massachusetts, on October 28, 2002.
Jay J. Pardee,
Manager, Engine and Propeller Directorate, Aircraft Certification Service.

[FR Doc. 02-28113 Filed 11-7-02; 8:45 am]

BILLING CODE 4910-13-P